DEPARTMENT OF HOMELAND SECURITY

Coast Guard

33 CFR Part 165

[Docket No. USCG-2009-0559]

Safety Zone; City of Eureka Fourth of July Fireworks Display, Humboldt Bay, Eureka, CA

AGENCY: Coast Guard, DHS.

ACTION: Notice of enforcement of regulation.

SUMMARY: The Coast Guard will enforce the safety zone for the annual City of Eureka Fourth of July Fireworks Display in the Captain of the Port, San Francisco area of responsibility during the dates and times noted below. This action is necessary to protect life and property of the maritime public from the hazards associated with the fireworks display. During the enforcement period, unauthorized persons or vessels are prohibited from entering into, transiting through, or anchoring in the safety zone, unless authorized by the Patrol Commander (PATCOM).

DATES: The regulations in 33 CFR 165.1191, Table 1, Item number 3, will be enforced from 10 a.m. on July 4, 2017 to 11 p.m. on July 4, 2017.

FOR FURTHER INFORMATION CONTACT: If you have questions on this notice, call or email Lieutenant Junior Grade Christina Ramirez, U.S. Coast Guard Sector San Francisco; telephone (415) 399-3585 or email at D11-PF-MarineEvents@uscg.mil.

SUPPLEMENTARY INFORMATION: The Coast Guard will enforce a 100 foot safety zone around the fireworks barge during the loading, transit, and arrival of the fireworks barge from the loading location to the display location and until the start of the fireworks display. From 10 a.m. on July 4, 2017 until 11 a.m. on July 4, 2017, the fireworks barge will be loading pyrotechnics from Schneider Dock in Eureka, CA. The fireworks barge will remain at the loading location until its transit to the display location. From 3 p.m. to 4 p.m. on July 4, 2017, the loaded fireworks barge will transit from Schneider Dock to the launch site near Woodley Island in approximate position 40°48′29″ N., 124°10′06″ W. (NAD 83) where it will remain until the conclusion of the fireworks display. Upon the commencement of the 45 minute fireworks display, scheduled to begin at 10 p.m. on July 4, 2017, the safety zone will increase in size and encompass the navigable waters around and under the fireworks barge within a radius 1,000 feet near Woodley Island in approximate position 40°48′29″ N., 124°10′06″ W. (NAD 83) for the Fourth of July Fireworks, City of Eureka in 33 CFR 165.1191, Table 1, Item number 3. This safety zone will be in effect from 10 a.m. on July 4, 2017 until 11 p.m. on July 4, 2017.

Under the provisions of 33 CFR 165.1191, unauthorized persons or vessels are prohibited from entering into, transiting through, or anchoring in the safety zone during all applicable effective dates and times, unless authorized to do so by the PATCOM. Additionally, each person who receives notice of a lawful order or direction issued by an official patrol vessel shall obey the order or direction. The PATCOM is empowered to forbid entry into and control the regulated area. The PATCOM shall be designated by the Commander, Coast Guard Sector San Francisco. The PATCOM may, upon request, allow the transit of commercial vessels through regulated areas when it is safe to do so.

This notice is issued under authority of 33 CFR 165.1191 and 5 U.S.C. 552(a). In addition to this notice in the Federal Register, the Coast Guard will provide the maritime community with extensive advance notification of the safety zone and its enforcement period via the Local Notice to Mariners.

If the Captain of the Port determines that the regulated area need not be enforced for the full duration stated in this notice, a Broadcast Notice to Mariners may be used to grant general permission to enter the regulated area.

Dated: March 14, 2017.
Anthony J. Ceraolo,
Captain, U.S. Coast Guard, Captain of the Port of San Francisco.

[FR Doc. 2017-06091 Filed 3-27-17; 8:45 am]

BILLING CODE 9110-04-P